DEPARTMENT OF HEALTH AND HUMAN SERVICES

Centers for Disease Control and Prevention

National Center for Environmental Health/Agency for Toxic Substances and Disease Registry—Scientific Counselors Board; Correction

In accordance with section 10(a)(2) of the Federal Advisory Committee Act (Pub. L. 92-463), the Centers for Disease Control and Prevention (CDC) announces the following committee meeting: Correction.

ACTION: Notice; Correction.

SUMMARY: The Board of Scientific Counselors, National Center for Environmental Health/Agency for Toxic Substances and Disease Registry published a document in the Federal Register on November 2, 2004, concerning advice and guidance to the Secretary, HHS; the Director, CDC and Administrator, ATSDR; and the Director, NCEH/ATSDR, regarding program goals, objectives, strategies, and priorities in fulfillment of the agencies' mission to protect and promote people's health.

Correction: In the Federal Register of November 2, 2004, (Volume 69, Number 211) [Notices] Page 63547—“PLACE: CDC Headquarter facility, 1600 Clifton Road, Atlanta, Georgia 30033” Should Read: Emory Conference Center, Silver Bell Pavillion, 1615 Clifton Road, Atlanta, Georgia 30333.

FOR FURTHER INFORMATION CONTACT: Sandra Malcom, Committee Management Specialist, NCEH/ATSDR, 1600 Clifton Road, Mail Stop E-28, Atlanta, GA 30303; telephone (404) 498-0003, fax (404) 498-0059; e-mail: smalcom@cdc.gov. The deadline for notification of attendance is November 12, 2004.

The Director, Management Analysis and Services Office, has been delegated the authority to sign Federal Register notices pertaining to announcements of meetings and other committee management activities for both CDC and the National Center for Environmental Health/Agency for Toxic Substances and Disease Registry.

Dated: November 12, 2004.
B. Kathy Skipper,
Acting Director, Management Analysis and Services Office, Centers for Disease Control and Prevention.

[FR Doc. 04-25593 Filed 11-17-04; 8:45 am]

BILLING CODE 4163-19-P